DEPARTMENT OF DEFENSE

Office of the Secretary

Defense Science Board Advisory Committee Meeting

AGENCY: Department of Defense.

ACTION: Notice of advisory committee meeting.

SUMMARY: The Defense Science Board Summer Study will meet in closed session on August 5-16, 2002, at the Beckman Center, Irvine, CA. At these meetings, the Defense Science Board will discuss interim findings and recommendations resulting from two ongoing Task Force activities: Missile Defense and Special Operations and Joint Forces in Support of Countering Terrorism.

The mission of the Defense Science Board is to advise the Secretary of Defense and the Under Secretary of Defense for Acquisition, Technology & Logistics on scientific and technical matters as they affect the perceived needs of the Department of Defense. At these meetings, the Board will develop recommendations that help guide the ballistic missile defense system (BMDS) toward a fully integrated, layered defense capable of defeating ballistic missiles in any phase of their flight by examining five areas: Counter-countermeasures; boost phase technology; battle management and command, control, and communications; international cooperation; and the evolution of ballistic missile threats.

The Board will also review all elements of the future joint force, including Special Operation Forces that can contribute to military campaigns. They will address how to: Enhance and best integrate information, maneuver and fires (kinetic and other, lethal and otherwise); deploy, sustain and protect the joint force in these missions, particularly in remote locations and in the face of counter-access measures; and, exploit and leverage the contributions of coalition partners both traditional (e.g., NATO allies) and non-traditional (e.g., that Afghan Northern Alliance). The Board will then recommend steps to pursue and implement the new and enhanced operational capabilities it identifies.

In accordance with Section 10(d) of the Federal Advisory Committee Act, Public Law 92-463, as amended (5 U.S.C. App. II), it has been determined that these Defense Science Board meetings concern matters listed in 5 U.S.C. 552b(c)(1) and that, accordingly, the meetings will be closed to the public

Dated: July 12, 2002.
Patricia L. Toppings,
Alternate OSD Federal Register Liaison Officer, Department of Defense.

[FR Doc. 02-18187 Filed 7-18-02; 8:45 am]

BILLING CODE 5001-08-M